DEPARTMENT OF THE INTERIOR

Bureau of Land Management

[OR-100-6334-AA; GP2-0195A]

Roseburg District Bureau of Land Management (BLM) Resource Advisory Committee (RAC): Correction, Cancellation of Meetings

AGENCY: Bureau of Land Management, Interior.

ACTION: Notice of public meetings; cancellation.

SUMMARY: On May 20, 2002, the Federal Register published the dates of the Roseburg District BLM Resource Advisory Committee Meetings. The following meeting dates have been cancelled: July 22, 2002, July 29, 2002, August 13, 2002, August 19, 2002, and August 26, 2002.

SUPPLEMENTARY INFORMATION: The RAC meets in accordance with the Federal Land Policy and Management Act and the Federal Advisory Committee Act of 1972 (FACA), 5 U.S.C.

FOR FURTHER INFORMATION CONTACT: Additional information concerning the Roseburg District BLM Resource Advisory Committee may be obtained from E. Lynn Burkett, Public Affairs Officer, Roseburg District Office, 777 Garden Valley Blvd, Roseburg, Oregon 97470, or elynn_burkett@blm.gov, or on the web at http://www.or.blm.gov.

Dated: July 19, 2002.
Michael H. Schwartz,
Regulatory Affairs Group Manager.

[FR Doc. 02-18802 Filed 7-22-02; 10:53 am]

BILLING CODE 4310-33-U